DEPARTMENT OF ENERGY

Federal Energy Regulatory Commission

[Project No. 13313-000]

BPUS Generation Development LLC; Notice of Preliminary Permit Application Accepted for Filing and Soliciting Comments, Motions To Intervene, and Competing Applications

February 20, 2009.

On October 31, 2008, BPUS Generation Development LLC (BPUS Generation) filed an application, pursuant to section 4(f) of the Federal Power Act, proposing to study the feasibility of the Lake Roosevelt Pumped Storage Project. The project would be located on federal lands in Ferry, Grant and Okanogan Counties in Washington State, approximately 40 miles northwest of the Town of Nespelem, Washington, and 38 miles southwest of the Town of Northport, Washington, and would utilize the U.S. Bureau of Reclamation's Lake Roosevelt Dam.

The proposed project would use the U.S. Bureau of Reclamation's Lake Roosevelt Dam as its lower reservoir and would consist of: (1) An upper reservoir with a surface area of approximately 123 acres at a normal water surface elevation ranging from 2,780 to 2,880 feet m.s.l.; (2) a proposed powerhouse containing 4 generating units having a total installed capacity of 1,310 megawatts, (3) a proposed intake structure, (4) a proposed 50-mile-long, 500 kV transmission line, and (5) appurtenant facilities. The project would have an annual generation of approximately 3,750 gigawatt-hours that would be sold to a local utility.

Applicant Contact: BPUS Generation—Mr. Jeffrey M. Auser, P.E., BPUS Generation Development LLC, 225 Greenfield Parkway, Suite 201, Liverpool, NY 13088; phone: 315-413-2821. FERC Contact: Tom Papsidero, 202-502-6002.

Deadline for filing comments, motions to intervene, competing applications, or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13313-000) in the docket number field to access the document. For assistance, call toll-free 1-866-208-3372.

Kimberly D. Bose,
Secretary.

[FR Doc. E9-4162 Filed 2-26-09; 8:45 am]

BILLING CODE 6717-01-P